DEPARTMENT OF HOUSING AND URBAN DEVELOPMENT

[Docket No. FR-5477-C-52]

Federal Property Suitable as Facilities To Assist the Homeless

AGENCY: Office of the Assistant Secretary for Community Planning and Development, HUD.

ACTION: Notice; Corrections.

SUMMARY: On December 30, 2011, at 76 FR 82317, HUD published a notice announcing HUD's suitable properties. The South Carolina property previously published as Suitable/Available should be corrected to Unsuitable:

Unsuitable/Available Properties Land

South Carolina

Marine Corps Air Station

3481 TRASK Parkway

Beaufort SC 29904

Landholding Agency: GSA

Property Number: 54201140009

Status: Excess

GSA Number: 4-N-SC-0608AA

Reasons: Other—Swamp; Floodway

FOR FURTHER INFORMATION CONTACT: Juanita Perry, Department of Housing and Urban Development, 451 Seventh Street SW., Room 7266, Washington, DC 20410; telephone (202) 708-1234; TTY number for the hearing- and speech-impaired (202) 708-2565 (these telephone numbers are not toll-free), or call the toll-free Title V information line at (800) 927-7588.

SUPPLEMENTARY INFORMATION: In accordance with 24 CFR part 581 and section 501 of the Stewart B. McKinney Homeless Assistance Act (42 U.S.C. 11411), as amended, HUD is publishing this Notice to identify Federal buildings and other real property that HUD has reviewed for unsuitability for use to assist the homeless. The properties were reviewed using information provided to HUD by Federal landholding agencies regarding unutilized and underutilized buildings and real property controlled by such agencies or by GSA regarding its inventory of excess or surplus Federal property.

Dated: January 13, 2012.
Mark R. Johnston,
Deputy Assistant Secretary for Special Needs.

[FR Doc. 2012-1029 Filed 1-19-12; 8:45 am]

BILLING CODE 4210-67-P